DEPARTMENT OF AGRICULTURE

Rural Business-Cooperative Service

Request for Proposals: Fiscal Year 2007 Funding Opportunity for 1890 Land-Grant Institutions Rural Entrepreneurial Outreach and Development Initiative

AGENCY: Rural Business-Cooperative Service, USDA.

ACTION: Initial notice of request for proposals.

SUMMARY: Business and Cooperative Programs are administered through USDA Rural Development. USDA Rural Development announces the availability of approximately $1.5 million in competitive cooperative agreement funds. USDA Rural Development hereby requests proposals from 1890 Land-Grant Universities and Tuskegee University (1890 Institutions) for competitively awarded cooperative agreements for projects that support USDA Rural Development's goals and objectives of providing technical assistance for business creation in economically challenged rural communities, for educational programs to develop and improve upon the professional skills of rural entrepreneurs, and for outreach and promotion of USDA Rural Development's programs in small rural communities with the greatest economic need. Project proposals must be designed to overcome currently identified economic problems and lead to sustainable economic development. Project proposals that address both traditional and nontraditional business enterprises are encouraged. This initiative seeks to create a working partnership between USDA Rural Development and the 1890 Institutions through cooperative agreements. A cooperative agreement requires substantial involvement of the Government agency in carrying out the objectives of the project.

Cooperative agreements will be awarded to the project proposals receiving the highest scores as determined by a peer review panel of USDA employees knowledgeable of the subject matter. Awards will be made to the extent that funds are available. However, USDA Rural Development is making no commitment to fund any particular project proposal or to make a specific number of awards. Eligible applicants must provide matching funds equal to at least 25 percent of the total project costs.

DATES: Paper copies of applications must be postmarked and mailed, shipped, or sent overnight no later than July 30, 2007, to be eligible for FY 2007 funding. Electronic copies of applications must be received by July 30, 2007, to be eligible for FY 2007 funding. Late applications are not eligible for FY 2007 funding.

ADDRESSES: You may obtain application guides and materials for the 1890 Land-Grant Institutions Rural Entrepreneurial Outreach and Development Initiative (1890 REOD Initiative) at the following Internet address: http://www.rurdev.usda.gov/rbs/oa/1890.htm or by contacting Edgar L. Lewis, Program Manager, USDA Rural Development, Cooperative Programs, Mail Stop 3252, 1400 Independence Avenue, SW., Washington, DC 20250-3252, telephone: (202) 690-3407, e-mail: edgar.lewis@wdc.usda.gov.

Final paper applications for an 1890 REOD Initiative cooperative agreement may be submitted via the U.S. Postal Service to USDA Rural Development, Attention: 1890 REOD Initiative, Mail Stop 3250, 1400 Independence Avenue, SW., Washington, DC 20250, or via UPS, FedEx, or similar delivery service to USDA Rural Development, Attention: 1890 REOD Initiative, Room 4016, 1400 Independence Avenue, SW., Washington, DC 20250. The telephone number that should be used on FedEx or similar packages is (202) 720-7558.

Submit electronic cooperative agreement applications using the Grants.gov Web site at http://www.grants.gov.

FOR FURTHER INFORMATION CONTACT: Edgar L. Lewis, Program Manager, USDA Rural Development, Cooperative Programs, Mail Stop 3252, Room 4204, 1400 Independence Avenue, SW., Washington, DC 20250-3252 telephone: (202) 690-3407, TDD Federal Information Relay Service: 1-800-877-8339, e-mail: edgar.lewis@wdc.usda.gov, or visit the program Web site at http://www.rurdev.usda.gov/rbs/oa/1890.htm.

SUPPLEMENTARY INFORMATION:

Overview

Federal Agency: Rural Business—Cooperative Service.

Funding Opportunity Title: 1890 Land-Grant Institutions Rural Entrepreneurial Outreach and Development Initiative (1890 REOD Initiative).

Announcement Type: Initial Announcement.

Catalog of Federal Domestic Assistance (CFDA) Number: 10.856.

Key Dates: Cooperative agreement applications may be submitted on paper or electronically according to the following deadlines.

Paper copies must be postmarked and mailed, shipped, or sent overnight no later than July 30, 2007, to be eligible for FY 2007 funding. Electronic copies must be received by July 30, 2007, to be eligible for FY 2007 funding. Late applications will not be considered for funding.

I. Funding Opportunity Description

This solicitation is issued pursuant to 7 U.S.C. 2204b(b)(4) and Executive Order 13256 (February 12, 2002), “President's Board of Advisors on Historically Black Colleges and Universities.”

Several other Federal statutes and regulations apply to project proposals considered for review and to cooperative agreements awarded. These include, but are not limited to:

7 CFR part 15, subpart A: Nondiscrimination in Federally Assisted Programs of the Department of Agriculture—Effectuation of Title VI of the Civil Rights Act of 1964,

7 CFR part 15b: Nondiscrimination on the Basis of Handicap in Programs or Activities Receiving Financial Assistance,

7 CFR part 3015: Uniform Federal Assistance Regulations,

7 CFR part 3017: Governmentwide Debarment and Suspension (Nonprocurement),

7 CFR part 3018: New Restrictions on Lobbying,

7 CFR part 3019: Uniform Administrative Requirements for Grants and Agreements with Institutions of Higher Education, Hospitals, and Other Non-Profit Organizations,

7 CFR part 3021: Governmentwide Requirements for Drug-Free Workplace (Financial Assistance),

7 CFR part 3052: Audits of States, Local Governments, and Non-Profit Organizations.

USDA Rural Development was established under the authority of the Department of Agriculture Reorganization Act of 1994. The mission of USDA Rural Development is to enhance the quality of life for rural Americans by providing leadership in building competitive businesses, including sustainable cooperatives that can prosper in the global marketplace. USDA Rural Development meets these goals by investing financial resources and providing technical assistance to cooperatives and other businesses located in rural communities and establishing strategic alliances and partnerships that leverage public, private, and cooperative resources to create jobs and stimulate rural economic activity.

The primary purposes of the 1890 REOD Initiative are to encourage 1890 Institutions to provide technical assistance for business creation in economically challenged rural communities, to conduct educational programs that develop and improve upon the professional skills of rural entrepreneurs, and to provide outreach and promote USDA Rural Development programs in small rural communities with the greatest economic need. Project proposals must be designed to overcome currently identified economic problems and lead to sustainable economic development. Project proposals that address both traditional and nontraditional business enterprises are encouraged.

USDA Rural Development will use cooperative agreements with the 1890 Institutions to strengthen the capacity of these communities to undertake innovative, comprehensive, citizen-led, and long-term strategies for community and economic development. The cooperative agreements will be for an outreach and development effort to promote Rural Development programs in targeted underserved rural communities and shall include, but not be limited to:

(a) Developing a business startup program, including technical assistance, to assist new cooperatives and other businesses with new business development, business planning, franchise startup and consulting, business expansion studies, marketing analysis, cash flow management, and seminars and workshops for cooperatives and small businesses;

(b) Developing management and technical assistance plans for:

(1) Assessing cooperative and small business alternatives to traditional agricultural and other natural resource based industries;

(2) Assisting in the development of business plans or loan packages, marketing, or bookkeeping; and

(3) Assisting and training cooperatives and small businesses in customer relations, product development, or business planning and development.

(c) Assessing local community weaknesses and strengths, feasible alternatives to agricultural production, and the necessary infrastructure to expand or develop new or existing businesses;

(d) Providing community leaders with advice and recommendations regarding best practices in community economic development stimulus programs for their communities;

(e) Conducting seminars to disseminate information to stimulate business and economic development in selected rural communities; and

(f) Conducting outreach through the use of computer technology and maintaining an Internet Web presence that links community leaders and residents to available economic development information.

II. Award Information

Type of Award: Cooperative Agreements.

Fiscal Year Funds: FY 2007.

Approximate Total Funding: $1,500,000.

Approximate Number of Awards: 13.

Approximate Average Award: $115,000.

Floor of Award Range: None.

Ceiling of Award Range: $115,000.

Anticipated Award Date: September 21, 2007.

Budget Period Length: 12 months.

Project Period Length: 12 months.

Funds may not be used to: (a) Pay costs of preparing the application package, (b) fund political activities, (c) pay costs prior to the effective date of the cooperative agreement, (d) provide for revolving funds, (e) pay for construction, (f) conduct any activities where there is or may appear to be a conflict of interest, or (g) purchase real estate.

If an applicant is to receive an award that is less than the amount requested, the applicant will be required to modify the application to conform to the reduced amount before execution of the cooperative agreement. USDA Rural Development reserves the right to reduce or de-obligate any award if acceptable modifications are not submitted by the awardee(s) within 10 working days from the date the application is returned to the applicant. Any modification must be within the scope of the original application.

Throughout the project period, USDA Rural Development's continued commitment to advance funds will be conditioned upon evidence of satisfactory progress by the recipient (as documented in certified acceptable quarterly progress and financial reports) and the determination that continued funding is in the best interest of U.S. Government.

III. Eligibility Requirements

1. Applicant Eligibility

To be eligible for an award under this program, an applicant must:

(a) Be an 1890 Institution which includes: Alabama A&M University, University of Arkansas-Pine Bluff, Delaware State University, Florida A&M University, Fort Valley State University, Kentucky State University, Southern University and A&M College, University of Maryland-Eastern Shore, Alcorn State University, Langston University, North Carolina A&T State University, Lincoln University (Missouri), South Carolina State University, Tennessee State University, Prairie View A&M University, Virginia State University, West Virginia State University, and Tuskegee University.

Although an applicant may be eligible to compete for an award based on its status as an eligible entity, other factors may exclude an applicant from receiving Federal assistance under this program (e.g. debarment d suspension). Applicants from ineligible institutions or persons will be rejected in their entirety. USDA Rural Development will accept only one application per Institution under this program. In the event that more than one application is submitted, the 1890 Institution's president will determine the official application for consideration;

(b) Demonstrate that the personnel assigned to the project have the expertise and experience necessary to fulfill the tasks set forth in the project proposal. Applicants should demonstrate a previous record of successful implementation of similar projects;

(c) Demonstrate expertise in the use of computer technologies to provide technical assistance and access to Internet Web sites; and

(d) Submit a completed application as set forth in Section IV.3.

An applicant may subcontract with organizations not eligible to apply provided such organizations are necessary for the conduct of the project. However, the subcontracted amount may not exceed one-third of the total Federal award.

2. Project Eligibility

To be eligible for an award under this program, an applicant must:

(a) Establish that the project eligible beneficiaries are located in a rural area as defined in 7 U.S.C. 1991(a)(13)(A) with a demonstrated economic need. Eligible beneficiaries must also be located in communities that show significant community support for the proposal,

(b) Provide matching funds equal to at least 25 percent of the total project costs, and

(c) Establish and maintain an Internet Web presence linked to the USDA Rural Development Web site. This Web site should contain links to additional economic development sites that will benefit residents and community leaders.

3. Rural Area Definition

Rural underserved targeted counties/communities must be an area other than a city or town that has a population of greater than 50,000 inhabitants and the urbanized area contiguous and adjacent to such a city or town, as defined by the U.S. Bureau of Census using the latest decennial census of the United States.

4. Matching Funds

Matching funds may be provided by either the applicant or third party in the form of either cash or in-kind contributions and must be from non-Federal funds. Matching funds must be spent in proportion to the spending of funds received from the cooperative agreement. Applicants must verify that matching funds are available for the time period of the cooperative agreement.

IV. Application Process

1. Application Packages

If an Institution plans to apply using a paper application, application packages, including the required forms for this funding opportunity, may be obtained from http://www.rurdev.usda.gov/rbs/oa/1890.htm. If an Institution is having difficulty accessing the forms online, it may contact USDA Rural Development at (202) 690-3407, FAX: (202) 690-2723, or TDD Federal Information Relay Service: 1-800-877-8339. The application forms and instructions may also be requested via e-mail by sending a message with the contact person's name, mailing address, and telephone number to edgar.lewis@wdc.usda.gov. The application forms and instructions will be mailed as quickly as possible. When calling or e-mailing USDA Rural Development, please indicate that you are requesting application forms and instructions for the FY 2007 1890 REOD Initiative.

If an Institution plans to apply electronically, the forms must be obtained from http://www.grants.gov.

2. Application Submission

Paper applications must be postmarked and mailed, shipped, or sent overnight not later than July 30, 2007. Electronic copies must be received by July 30, 2007. Late applications will not be considered for funding. The applicant assumes the risk of any delay in proposal delivery. Applicants are strongly encouraged to submit completed applications electronically or via overnight mail or delivery service to ensure timely receipt by USDA Rural Development. Receipt of all applications will be acknowledged by e-mail. Therefore, applicants are strongly encouraged to provide accurate e-mail addresses. If the applicant does not receive an acknowledgment within 7 workdays of the submission deadline, please contact the program manager. If USDA Rural Development receives your application after the deadline due to: (a) Carrier error, when the carrier accepted the package with guarantee for delivery by the closing date and time, or (b) significant weather delays or natural disaster, you will be given the opportunity to document these problems. USDA Rural Development will consider the application as having been received by the deadline if your documentation meets these requirements and verifies the delay was beyond your control. Applications submitted via facsimile will not be accepted.

An Institution may submit its application in paper or in an electronic format. If a paper application is submitted, a signed original and two copies of the completed application must be submitted. The original and two copies must include all required forms, certifications, assurances, project proposal documents, and appendices; be signed by an authorized representative of the Institution; contain original signatures; and be submitted unbound.

A paper application submitted via the Postal Service must be addressed to USDA Rural Development, Attention: 1890 REOD Initiative, Mail Stop 3250, 1400 Independence Avenue, SW., Washington, DC 20250. A paper application submitted via a commercial carrier such as UPS, FedEx, or similar delivery service must be addressed to USDA Rural Development, Attention: 1890 Initiative, Room 4016, 1400 Independence Avenue, SW., Washington, DC 20250. The telephone number to be used on FedEx or similar packages is (202) 720-7558.

If an application is submitted electronically, the application must be submitted at http://www.grants.gov. Applicants are advised to visit the site well in advance of the application deadline if they plan to apply electronically to ensure that they have obtained the proper authentication and have sufficient computer resources to complete the application.

All Federal grant applicants must provide a Dun and Bradstreet Data Universal Numbering System (DUNS) number when applying for Federal grants and cooperative agreements. The DUNS number is required whether an applicant is submitting a paper application or using the governmentwide electronic portal Grants.gov. A DUNS number is required for every application for a new award or renewal/continuation of an award, including applications or plans under formula, entitlement, and block grant programs, submitted on or after October 1, 2003. Please ensure that your institution has a DUNS number. An Institution may acquire a DUNS number at no cost by calling the dedicated toll-free DUNS number request line on 1-866-705-5711 or online at http://www.dnd.com.

If an Institution's application does not contain a DUNS number field, please write the DUNS number at the top of the first page of the application and/or include the DUNS number in the application cover letter.

3. Completed Application

To be eligible for funding, an application must contain all of the following elements. Applications that are missing any element or contain an incomplete element will not be considered for funding.

(a) Completed forms.

(1) Form SF-424, “Application for Federal Assistance.” In order for this form to be considered complete, it must contain the legal name of the applicant, the applicant's DUNS number, the applicant's complete mailing address, the name and telephone number of a contact person, the employer identification number (EIN), the start and end dates of the project, the Federal funds requested, other funds, including in-kind funds, that will be used as matching funds, congressional districts, an answer to the question, “Is applicant delinquent on any Federal debt?”, the name and signature of an authorized representative, the telephone number of the authorized representative, and the date the form was signed. Other information requested on the form may be applicable, but the above-listed information is required for an application to be considered complete.

(2) Form SF-424A, “Budget Information—Non-Construction Programs.” In order for this form to be considered complete, the applicant must fill out Sections A, B, C, and D. The applicant must include both Federal and matching funds, including in-kind funds.

(3) Form SF-424B, “Assurances—Non-Construction Programs.” In order for this form to be considered complete, the form must be signed by an authorized official and include the title, name of applicant, and date.

(4) Form AD-1047, “Certification Regarding Debarment, Suspension, and Other Responsibility Matters—Primary Covered Transactions.”

(5) Form AD-1049, “Certification Regarding Drug-Free Workplace Requirements.”

(b) Letters of support.

(c) Table of Contents: For ease of locating information, each proposal must contain a detailed Table of Contents immediately following the required forms. The Table of Contents should include page numbers for each component of the proposal. Pagination should begin immediately following the Table of Contents. Provide page numbers in the Table of Contents where each evaluation criterion is addressed.

(d) Project Executive Summary: A summary of the Project Proposal, not to exceed one page, must briefly describe the project, including goals, tasks to be completed, and other relevant information that provides a general overview of the project.

(e) Eligibility Discussion: A detailed discussion, not to exceed four pages, will describe how the applicant meets the eligibility requirements. In the event that more than four pages are submitted, only the first four pages will be considered. The eligibility discussion must address the following:

(1) Applicant Eligibility: The applicant must first confirm it is an 1890 Institution. It must demonstrate that the personnel assigned to the project have the expertise and experience necessary to fulfill the tasks set forth in the project proposal, including the use of computer technologies and technical assistance.

(2) Project Eligibility: The applicant must describe how the project's eligible beneficiaries are located in a rural area as defined in 7 U.S.C. 1991(a)(13)(A) with a demonstrated economic need and how eligible beneficiaries are also located in communities that show significant community support for the proposal. The applicant must show how it is to provide matching funds equal to at least 25 percent of the total project costs. The applicant must provide the address of the Internet Web presence linked to the USDA Rural Development Web site or demonstrate how such a link will be developed.

(f) Project Proposal: The application must contain a narrative statement describing the nature of the proposed project. Each of the proposal evaluation criteria referenced in this funding announcement must be addressed, specifically and individually, in narrative form. The proposal must include at least the following:

(1) Project Title Page: The Title Page must include the title of the project, names of principal investigators, and applicant organization.

(2) Introduction: A concisely worded justification or rationale for the proposal must be presented. Summarize the social and economical statistical data (income, population, employment rate, poverty rate, educational attainment, etc.) for the project area that substantiates the need for the initiative. Specify whether the target area includes a Federally designated Empowerment Zone/Enterprise Community, Champion Community, Federally-recognized Indian Reservation, or other Federally declared economic disaster area. An applicant must address the “Economic Need of Community” evaluation criterion as described in Section VII.1.(c).

(3) Workplan: Discuss the approach (strategy) to be used in carrying out the proposed project outreach and achieving the proposed objectives. Address the “Statement of Work” evaluation criterion as described in Section VII.1.(e). A description of any subcontracting arrangements to be used in carrying out the proposed project must be included. The workplan also must include:

(i) Overview: Identify and discuss the specific goals and objectives of the proposed project and its impact on the proposed beneficiaries;

(ii) Timeframes: Develop a tentative timeline for completing the major tasks outlined in the project proposal;

(iii) Project Outcomes/Impacts: Describe and quantify the expected outcomes/impacts of the proposed project, including the businesses created, professionals trained, jobs created or assisted, conferences and seminars to be conducted, and the expected number of participants, loans packaged, etc.;

(iv) Recipient Involvement: Identify the person(s) responsible for performing the project tasks; and

(v) USDA Rural Development Involvement: Identify proposed USDA Rural Development responsibilities for assisting and monitoring project tasks;

(4) Budget Narrative: Provide a detailed budget justification, showing both Federal and applicant's matching funds, including in-kind contributions. Provide a budget to support the workplan, showing all sources and uses of funds during the project period. Detail and document both cash and in-kind funding by sources. Note that only goods and services for which no expenditure is made can be considered in-kind. If the applicant is paying for the goods and services as part of the matching funds contribution, the expenditure is considered a cash match and should be verified as such.

(5) Certification of Matching Funds: Certify that matching funds will be available at the same time Federal funds are anticipated to be spent and that matching funds will be spent on a pro rata basis with Federal funds. Please note that this certification is a separate requirement from the verification of Matching Funds requirement.

(6) Leveraging Funds: Discuss in narrative form how the Institution will use Federal, State, private, and other sources of funds and resources to leverage the proposed project.

(7) Coordination and Management Plan: Describe how the project will be coordinated among the various participants, the nature of the collaborations and benefits to participants, communities, applicants, and Rural Development. Describe plans for the management of the project to ensure its proper and efficient administration. Discuss any steering committees and/or Agreements developed to assist with managing the project. Describe the proposed scope of Rural Development's involvement in the project.

(8) Technology Outreach: The project proposal must address the applicant's ability to deliver computer technology to the targeted rural communities and maintain computer Internet Web sites linking community leaders and residents to available economic development information. Address the “Digital Technology Outreach” evaluation criterion as described in Section VII. 1.(f).

(9) Key Personnel Support: The roles and responsibilities of key personnel used to carry out the goals and objectives of the proposal should be clearly described. An abbreviated curriculum vitae should be provided for all key personnel.

(10) Facilities or Equipment: Identify where the project will be located (housed) and what additional equipment is needed or already available to carry out the specific objectives of the project.

(11) Previous Accomplishments: Summarize the Institution's previous outreach and development accomplishments, including success stories from previous years for projects funded by USDA Rural Development or similar outreach or development experiences. First-time applicants should discuss previous similar outreach accomplishments. Address the “Previous Accomplishments” evaluation criterion as described in Section VII.1.(d).

(12) Local and USDA Rural Development State Office Support: Provide letters of support from the local community, such as businesses, educational institutions, local governments, community-based organizations, etc. Letters of support should demonstrate commitments for tangible resources and/or assistance. Include any letter from the appropriate USDA Rural Development State Office, evidencing its input to the proposal or other involvement. Identify and discuss tangible support contained in the letters. Evaluation points will be based on the quality (tanagible support) of the letters, not quantity.

(13) Additional information: Provide any additional information that demonstrates commitment for tangible resources and/or that supports the proposal. Additionally, the applicant is encouraged to provide any strategic plan that has been developed to assist cooperative and business development or entrepreneurship for the targeted communities.

V. Intergovernmental Review of Applications

Executive Order (EO) 12372 does not apply to this program.

VI. Funding Restrictions

Public Law 109-97, Sec. 708, states “No funds appropriated by this Act may be used to pay negotiated indirect cost rates on cooperative agreements or similar arrangements between the United States Department of Agriculture and nonprofit institutions in excess of 10 percent of the total cost of the agreement when the purpose of such cooperative arrangement is to carry out programs of mutual interest between the two parties.” Indirect costs in excess of 10 percent of the direct cost, therefore, will be ineligible for funding. Cooperative agreement funds may not be used to:

1. Plan, repair, rehabilitate, acquire, or construct a building or facility including a processing facility;

2. To purchase, rent or install fixed equipment;

3. Repair or maintain privately owned vehicles;

4. Pay for the preparation of the application;

5. Fund political activities;

6. Pay costs incurred prior to receiving this agreement; or

7. Fund any activities prohibited in 7 CFR parts 3015 and 3019, as applicable.

Other funding restrictions are identified in Section III.

VII. Application Review

1. Criteria

Project proposals will be evaluated using the following seven criteria. Each criterion is given the weight value shown with total points equal to 100. The points assigned provide an indication of the relative importance of each section and will be used by the reviewers in evaluating the proposals. Points do not have to be awarded for each criterion. After all proposals have been evaluated, the Administrator may award an additional 10 discretionary points to any proposal to obtain the broadest geographic distribution of the funds, ensure a broad diversity of project proposals, or ensure a broad diversity in the size of the awards.

(a) Support of Local Community (Up to 10 points): This criterion evaluates the support of local government, educational, community, and business groups. Higher points will be awarded for proposals demonstrating broad support from all components of the communities served, particularly cooperative groups. Broad support is demonstrated by tangible contributions, such as providing volunteers, computers, and transportation or co-sponsoring workshops and conferences. Points will be awarded based on the level of tangible contribution in comparison to the size of the award. Tangible support must be stated in letters from supporting entities.

(b) Matching Funds/Leveraging (Up to 10 points): This criterion evaluates the extent to which the Institution has the capacity to support the project with matching funds and leveraging additional funds and resources from State, private, public, and nonprofit sources to carry out this outreach and development initiative.

A maximum of 10 points will be awarded based upon the amount the proposal exceeds the minimum 25 percent matching requirement. Applicants will be required to provide matching funds in support of this project. Evidence of matching funds availability must be provided. Funds or equivalent in-kind funding must be available at the time at which the cooperative agreement is entered. Matching funds points will be awarded as listed below:

>25 percent to 35 percent match, 2 points

>35 percent to 50 percent match, 5 points

>50 percent to 75 percent match, 7 points

>75 percent match, 10 points

(c) Economic Need of Community (Up to 15 points): This criterion evaluates the economic need of the targeted communities.

Five points will automatically be awarded to project proposals with at least one of the beneficiary communities located in a targeted community(s): Federally designated Empowerment Zones, Enterprise Communities, Champion Communities, Federally-recognized Indian Reservations, and other Federally declared economically depressed or disaster areas. The application must state the name(s) and location(s) of the economically depressed community(s) and the type(s) of targeted community designation (i.e., Empowerment Zone).

Up to a maximum of 10 additional points may be awarded based upon the applicant's ability to identify and demonstrate other economic factors that would cause these communities to be targeted for special economic and community development, such as, but not limited to, unemployment rates, poverty rates, education levels, and job availability. These and other factors will be evaluated and compared to the respective State rates. An applicant must provide sufficient information for the panel to properly evaluate and rate this criterion.

(d) Previous Accomplishments (Up to 10 points): This criterion evaluates the applicant's previous accomplishments with this initiative and/or its demonstrative capacity to conduct similar projects.

One point will be awarded to an Institution for each year it has been awarded a cooperative agreement under this program up to a total of 5 years. An applicant must provide evidence of satisfactorily completing the cooperative agreement for each year for which credit is claimed. Satisfactorily completing the cooperative agreement includes, completing all objectives in the workplan, submitting all required program and financial reports in a timely manner, and within budget for the project. Applicants with less than 5 recent years of awards in this program may receive up to the maximum 5 points by highlighting the applicant's previous performance in each of the past 5 years on other projects with cooperative and business development and outreach objectives. The applicant should discuss the potential impact of the project upon the targeted underserved rural communities, as well as describing previous similar outreach and development work.

Up to a maximum of 5 additional points may be awarded based upon an applicant's ability to document the positive impact of its project upon the targeted underserved rural communities. Positive entrepreneurial developments should be emphasized. Points will be awarded to applicants who demonstrate that the project's technical assistance resulted in the creation of a business(s) in an economically challenged community or that its educational programs developed or improved upon the professional skills of rural entrepreneurs. The applicant must provide specific information as to the specific businesses created and/or professional educational programs offered.

(e) Statement of Work (up to 35 points): This criterion evaluates the degree to which the proposed project addresses the major purposes for the 1890 REOD Initiative. Points will be awarded according to the degree to which the Statement of Work reflects: (1) Innovative strategies for providing technical assistance for business creation in economically challenged rural communities, (2) educational programs that develop and improve the professional skills of rural entrepreneurs, and (3) outreach and promotion of USDA Rural Development programs.

Up to a maximum of 15 points will be awarded to proposed projects that have a clearly and concisely stated workplan detailing goals and objectives, timetables, expected results, and measurable outcomes for providing technical assistance for business creation in economically challenged rural communities. The greatest number of points will be awarded to those proposed projects that demonstrate innovative and creative ways to accomplish these goals.

Up to a maximum of 10 additional points will be awarded to proposed projects that have a clearly and concisely stated workplan detailing goals and objectives, timetables, expected results, and measurable outcomes for educational programs to develop and improve the professional skills of rural entrepreneurs (i.e., sustainable agricultural practices, real estate sales, real estate appraising, accounting for small entrepreneurs, etc.). The greatest number of points will be awarded to those proposed projects that demonstrate innovative and creative ways to accomplish these goals.

Up to a maximum of 10 additional points will be awarded to proposed projects for outreach and promotion of USDA Rural Development's programs in small rural communities with the greatest economic need. The greatest number of points will be awarded to those proposed projects that demonstrate innovative and creative ways to accomplish these goals.

All proposals must integrate substantial USDA Rural Development involvement.

(f) Digital Technology Outreach (Up to 10 points): This criterion evaluates the applicant's experience and capacity to provide outreach and assistance to targeted underserved rural communities through use of computer technologies.

A maximum of 10 points will be awarded based upon the applicant's demonstrated capacity to promote innovations and improvements in the delivery of computer technology benefits, including a Web presence to underserved rural communities whose share in these benefits is disproportionately low. The Web site should be operational with a link to the USDA Rural Development Web site and populated with success stories and economic development information.

(g) Coordination and Management of the Project (Up to 10 points): This criterion evaluates the applicant's demonstrated capacity to coordinate and manage the proposed project among the various stakeholders.

Up to a maximum of 5 points will be awarded based upon the applicant's ability to demonstrate a broad and collaborative involvement with the respective USDA Rural Development State Office on the proposed project. This involvement and collaboration should include, but not be limited to: (1) Evidence of any USDA Rural Development State Office input in and review of the applicant's proposal, (2) a detailed plan for the USDA Rural Development State Office's continued participation in the proposed project that includes specific participatory tasks, and (3) a detailed plan as to how Rural Development programs can be integrated into the proposed project.

Up to a maximum of 5 additional points will be awarded based upon applicant's demonstrated ability for overall management of the project, which include submitting timely program and financial reports, and completing workplan goals/objectives as stated in the proposal. Applicants must document in the proposal that all required reports have been submitted.

2. Selection Process

Each application will be evaluated in a two-part process. First, each application will be reviewed to ensure that both the applicant and project meet the eligibility requirements set forth in Section III. All applicants determined to be eligible will be scored based upon the criteria set forth in Section VII. 1. Each eligible application will be scored by at least three expert reviewers. The individual scores for each application will be tallied, and applications receiving the highest scores will be recommended to the Administrator or Acting Administrator, Rural Business-Cooperative Service, for award. The Administrator or Acting Administrator has the final authority to award discretionary points in accordance with Section VII. 1. and determine the applications to be funded. If a tie score results after the proposals have been rated and ranked, the tie will be resolved by the proposal with the largest matching funds as a percent of the Federal amount of the selected award.

VIII. Award Administration

1. Award Notification

Upon completion of the review process, successful applicants will be notified, in writing, by the USDA Rural Development National Office of its award. Each successful applicant will receive a cooperative agreement for signature by the Institution's president or designee. The document will become binding upon execution by the appropriate USDA official.

Unsuccessful applicants will be notified, in writing, of the results of the review.

2. Advance of Funds Requirements

Requests for advance of funds must be submitted to the National Office on a quarterly basis on a completed Form SF-270, “Request for Advance or Reimbursement.” A completed Form SF-269 (Long Form), “Financial Status Report,” must be submitted with each advance of funds request.

3. Project Reviews

USDA Rural Development State Office representatives will conduct semiannual onsite reviews of award recipients, as well as any additional reviews deemed necessary by the National Office.

4. Reporting Requirements

During the term of the cooperative agreement, each award recipient must submit quarterly progress reports and a final report detailing the tasks performed and results accomplished to the National and appropriate State Offices. The report should also include a summary at the end of the report with the following elements to assist in documenting the annual performance measures of the 1890 program:

(a) Number of businesses/cooperatives started/expanded in the targeted areas;

(b) Number of currently active businesses/cooperatives in the targeted areas that were assisted;

(c) Number of individuals/businesses/cooperatives/organizations assisted (training, technical assistance, feasibility studies, etc.); and

(d) Number of individuals/businesses/cooperatives/organizations assisted with USDA Rural Development loan or grant programs or other similar programs.

Quarterly reports must be submitted on or prior to January 31, April 30, July 31, and October 31, 2008. A final report must be submitted within 90 days of the date of the project's completion. Reports may be submitted in hard copy original or an electronic copy that includes all required signatures. Failure to submit satisfactory, timely reports may result in suspension or termination of current award and/or result in making your institution ineligible for future awards from this program.

Upon the request of USDA Rural Development, the award recipient will submit manuscripts, videotapes, software, or other media identified in project proposals. USDA Rural Development retains those rights delineated in 7 CFR 3019.36.

5. Administrative Requirements

Award recipients are responsible for:

(a) Completing the objectives defined in the proposed workplan.

(b) Maintaining up-to-date project records during the term of the agreement.

(c) Maintaining an accounting of Federal and matching fund expenditures, including in-kind contributions. Award recipients must submit to the National Office a completed Form SF-269 (Long Form) with each advance of funds request and within 90 days of the project's completion.

(d) Immediately refunding to USDA Rural Development, at the end of the agreement, any balance of unobligated funds received from USDA Rural Development.

(e) Providing matching funds or equivalent in-kind contribution in support of the project, at least to the level agreed to in the accepted proposal.

(f) Participating in the annual or biannual USDA Rural Development Entrepreneurship and Information conferences/workshops when planned.

(g) Developing a program of cooperative and business startup and technical assistance, in cooperation with local businesses, that will assist with new company development, business planning, new enterprise, franchise startup and consulting, business expansion studies, marketing analysis, cash flow management, and seminars and workshops for cooperatives and small businesses.

(h) Providing office space, equipment, and supplies for all personnel assigned to the project.

(i) Developing management and technical assistance plans in cooperation with the USDA Rural Development State Office that will:

(1) Assess cooperative and small business alternatives to agriculture and other natural resources-based industries;

(2) Assist in the development of business plans and loan packages, marketing, bookkeeping assistance, and organizational sustainability; and

(3) Provide technical assistance and training, in cooperation with the USDA Rural Development State Office, for customer relations, product development, and business planning and development.

(j) Assess local community needs, weaknesses and strengths, feasible alternatives to agriculture production, and the needed infrastructure to expand or develop new or existing businesses. The plans for any such studies must be submitted to the USDA Rural Development National Office for approval prior to the study being conducted.

(k) Provide community leaders with advice and recommendations, in cooperation with the USDA Rural Development State Office, regarding best practices in community economic development stimulus programs for their communities.

(l) Develop digital technology outreach and establish and maintain an Internet Web site to link community leaders and residents to available economic development information. USDA Rural Development must be included in the link to economic development information.

(m) Assure and certify that it is in compliance with, and will comply in the course of the agreement with, all applicable laws, regulations, Executive Orders, and other generally applicable requirements, including those set out in 7 CFR parts 3015 and 3019.

(n) Use Federal funds only to pay meeting-related travel expenses when employees are performing a service of direct benefit to the Government and in direct furtherance of the objectives of the proposed agreement. Federal funds cannot be used to pay non-Federal employees to attend meetings.

(o) Not commingle or use program funds for administrative expenses to operate an intermediary relending program (IRP).

(p) Submit to USDA Rural Development National Office, in writing, any request for revising the project work plan, including key personnel changes, budget reallocations, or requesting a no-cost extension amending the cooperative agreement.

(q) Assist the USDA Rural Development State Office in conducting a semiannual on-site review of the recipient's project.

(r) Collaborate, as needed, with the USDA Rural Development National and State Offices in performing the tasks in the agreement and providing the Rural Development National Office with the information necessary for the Agency to fulfill its responsibilities in the agreement.

(s) Sign an Agency approved Cooperative Agreement.

USDA Rural Development is responsible for:

(a) Monitoring the program as it is being implemented and operated, including monitoring of financial information, to ensure that there is no commingling or use of program funds for administrative expenses to operate an IRP or other unapproved items.

(b) Terminating activity, after written notice, if tasks are not met.

(c) Reviewing and approving changes to key personnel.

(d) Providing technical assistance as needed.

(e) Approving the final plans for any community business workshops; cooperative, business, and economic development sessions; and training workshops to be conducted by the recipient.

(f) Providing reference assistance, as needed, to the recipient for technical assistance given on a one-on-one basis to entrepreneurs and startup businesses.

(g) Reviewing and commenting on strategic plans developed by recipients for targeted areas.

(h) Reviewing economic assessments made by the recipient for targeted counties, enabling USDA Rural Development to determine the extent to which its programs are beneficial.

(i) Carefully screening projects to prevent First Amendment violations.

(j) Monitoring the program to ensure that a Web site link to USDA Rural Development is established and maintained.

(k) Ensuring that USDA Rural Development State Offices conduct semiannual on-site reviews and submit written reports to the National Office.

(l) Participating in 1890 outreach and development program workshops, seminars, and conferences as needed.

(m) Providing any other work agreed to by USDA Rural Development in the Cooperative Agreement.

IX. Agency Contact

FOR FURTHER INFORMATION CONTACT: Edgar L. Lewis, Program Manager, USDA Rural Development, Cooperative Programs, Stop 3252, Room 4204, 1400 Independence Avenue SW., Washington, DC 20250-3252. Telephone: (202) 690-3407, e-mail: edgar.lewis@wdc.usda.gov.

X. Paperwork Reduction Act

The paperwork burden associated with this initiative has been cleared by the Office of Management and Budget under OMB Control Number 0570-0041.

Dated: June 7, 2007.
Jackie J. Gleason,
Administrator, Rural Business-Cooperative Service.

[FR Doc. E7-11408 Filed 6-12-07; 8:45 am]

BILLING CODE 3410-XY-P